FEDERAL COMMUNICATIONS COMMISSION

47 CFR Parts 0, 80, and 90

[WT Docket No. 99-332; FCC 00-220]

Frequency 156.250 MHz Available for Port Operations Purposes in Los Angeles and Long Beach, CA Ports

AGENCY: Federal Communications Commission.

ACTION: Final rule.

SUMMARY: This document amends the Commission's rules to designate marine VHF Channel 05A for port operations communications in Los Angeles and Long Beach, California ports. The effect of this rule is that it will foster reliable marine communications and increase safe vessel transit in the ports. The action will allow the LA/LB Pilots to manage vessel traffic in that area more efficiently and protect the marine environment by preventing collisions and groundings.

EFFECTIVE DATE: August 14, 2000.

FOR FURTHER INFORMATION CONTACT: James Shaffer, Wireless Telecommunications Bureau at (202) 418-0680.

SUPPLEMENTARY INFORMATION:

1. This is a summary of the Commission's Report and Order (R&O) FCC 00-220, adopted on June 15, 2000, and released on June 20, 2000. The full text of this R&O is available for inspection and copying during normal business hours in the FCC Reference Center, Room CY A257, 445 12th Street, S.W., Washington, D.C. The complete text may be purchased from the Commission's copy contractor, International Transcription Service, Inc., 1231 20th Street, N.W. Washington, D.C. 20037.

Summary of Report and Order

2. By letter the Los Angeles and Long Beach Port Pilots (jointly, LA/LB Pilots) request the assignment of an intership marine VHF channel dedicated to port operations (namely, pilot-tug communications) in the Ports of Los Angeles and Long Beach, California. They note that marine VHF Channels 01A (156.050 MHz), 05A (156.250 MHz), and 63A (156.175 MHz) are currently used for U.S. Coast Guard (Coast Guard) designated Vessel Traffic Service (VTS) systems in defined areas of the United States. The LA/LB Pilots recommend that the Commission designate one of these for intership communications regarding port operations to improve vessel traffic safety in the Los Angeles and Long Beach port area.

3. Based on the record in this proceeding, we conclude that designating 156.250 MHz for intership communications related to port operations for the ports of Los Angeles and Long Beach, CA will allow the Marine Exchange of Los Angeles-Long Beach Harbor, Inc. to manage vessel traffic in those areas more efficiently. Further this action will help protect the marine environment by preventing vessel collisions and groundings. Therefore, we are amending § 80.373(f) of the Commission's Rules to indicate that frequency 156.250 MHz (marine VHF Channel 05A) is available only for intership communications related to port operations within the Los Angeles and Long Beach harbor areas. The radio protection area will be defined as “within a 25-nautical mile radius of Point Fermin, California.”

4. In light of our action designating 156.250 MHz for intership communications related to port operations for the ports of Los Angeles and Long Beach, CA, we will lift the current freeze imposed on licensing the Public Safety Pool frequencies of 156.240 and 156.2475 MHz within 100 miles of the geographic center of Los Angeles. The freeze will be lifted as of the date of the release of this R&O. In addition, we are adopting our proposal to make assignments on these Public Safety Pool frequencies within 100 miles of the geographic center of Los Angeles, CA secondary to marine port operations on 156.250 MHz. By secondary, we mean that radio communications from licensees on the Public Safety Pool frequencies 156.240 and 156.2475 MHz may not cause interference to marine port operations on 156.250 MHz and licensees on the Public Safety Pool frequencies are not protected from interference from marine port operations on 156.250 MHz.

5. Finally, we amend 47 CFR 0.331 of the Commission's Rules to authorize the Chief, WTB to amend the maritime service rules at the request of the Coast Guard to indicate that the use of marine VHF private communications frequencies in defined port areas are available for intership communications related to such port operations in order to alleviate the communications congestion related to such port operations.

6. We do not envision or anticipate that allowing the Chief, WTB at the request of the Coast Guard to amend the frequency table in 47 CFR 80.373(f) and make marine VHF frequencies available for intership port operations communications in defined port areas will impact those licenses sold in Auction No. 20, VHF Public Coast (VPC) Service. The forty-two licenses that were auctioned involved the nine channels (“working frequencies”) in the 157.1875-157.4500 MHz (ship transmit) and 161.775-162.0125 MHz (coast transmit) bands assignable to VHF public coast stations for public correspondence. These auctioned frequencies are assigned for radiotelephone working frequencies and are assignable to ship and public coast stations. The frequencies in 47 CFR 80.373(f) are for private communications and are assignable for ship-to-ship and ship-to-coast private communications and are below the frequency range of the auctioned public correspondence frequencies. Therefore the auctioned public correspondence frequencies will not be considered for intership port operations.

7. Overall, we believe the approach outlined above will allow the Commission to expedite Coast Guard requests, which will promote increased safe vessel transit and protect U.S. waters and associated natural resources from environmental harm.

8. Accordingly, we adopt rules: to amend § 80.373(f) of the Commission's Rules to indicate that frequency 156.250 MHz (marine VHF Channel 05A) is available only for intership communications related to port operations within the Los Angeles and Long Beach harbor areas (The radio protection area for these harbors will be defined as “within a 25-nautical mile radius of Point Fermin, California”); to amend § 90.20(c) of the Commission's Rules to indicate that assignments on public safety pool frequencies of 156.240 and 156.2475 MHz within 100 miles of the geographic center of Los Angeles are secondary to marine port operations on 156.250 MHz; and to amend § 0.331 of the Commission's Rules to authorize the Chief, Wireless Telecommunications Bureau to amend the maritime service rules at the request of the Coast Guard to indicate that the use of marine VHF private communications frequencies in defined port areas are available for intership communications related to port operations. We conclude that adoption of these rule changes will allow the vessel traffic in the congested areas of the Los Angeles and Long Beach harbors to be managed more efficiently and will protect the marine environment by preventing vessel collisions and groundings.

Final Regulatory Flexibility Analysis (FRFA)

9. As required by the Regulatory Flexibility Act (RFA), an Initial Regulatory Flexibility Analysis (IRFA) was incorporated in the Notice of Proposed Rulemaking (NPRM) prepared in this proceeding. The Commission sought written public comment on the proposals in the NPRM, including comments on the IRFA. This present FRFA conforms to the RFA.

A. Need for, and Objectives of, the Report and Order

10. In this proceeding, we amend parts 0, 80 and 90 of the Commission's Rules to indicate that frequency 156.250 MHz (marine VHF Channel 05A) is available for intership communications related to port operations within the Los Angeles and Long Beach harbor areas. The adopted rules will promote safe vessel transit and protect U.S. waters and associated natural resources from environmental harm.

B. Summary of Significant Issues Raised by Public Comments in Response to the IRFA

11. No comments were submitted specifically in response to the IRFA.

C. Description and Estimate of the Number of Small Entities to Which the Adopted Rules Will Apply

12. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA). A small organization is generally “any not-for-profit enterprise which is independently owned and operated and is not dominant in its field. The adopted rules would apply to small businesses in the marine radio services that use a marine VHF radio. According to SBA's regulations, a radiotelephone (wireless) must employ no more than 1,500 persons less in order to qualify as a small business concern. According to the Bureau of the Census, only twelve radiotelephone firms out of a total of 1,178 such firms which operated during 1992 had 1,000 or more employees.

D. Description of Projected Reporting, Recordkeeping and Other Compliance Requirements

13. There are no reporting, recordkeeping and other compliance requirements proposed.

E. Steps Taken to Minimize Significant Economic Impact on Small Entities and Significant Alternatives Considered

14. By making frequency spectrum available, the adopted rules will have a beneficial economic impact on small business entities that use the frequency 156.250 for intership communications related to port operations within the Los Angeles and Long Beach harbor areas. This flexible approach allows the vessel pilots to manage vessel traffic in the Los Angeles and Long Beach harbor areas more efficiently and protect the marine environment by preventing vessel collisions and groundings. Currently under the rules frequency 156.250 MHz is similarly made available to maritime mobile and was made available for port operations purposes within the Coast Guard designated Houston and New Orleans, and Seattle Vessel Traffic Service (VTS) systems. The alternative in this context—to retain the allocation for maritime mobile in the two ports—would not assist the maritime community in the way expected, including the small entities affected. We believe that the adopted rules are sufficient to alleviate the communications congestion related to port operations in the Los Angeles and Long Beach harbor areas. This decision benefits small entities and seeks to ensure reliable marine communications, increase safe vessel transit to protect U.S. waters and associated natural resources from environmental harm, and increase port efficiency thereby promoting growth within the shipping community.

Report to Congress: The Commission will send a copy of the R&O, including this FRFA, in a report to be sent to Congress pursuant to the Small Business Regulatory Enforcement Fairness Act of 1996, see 5 U.S.C. 801(a)(1)(A). In addition, the Commission will send a copy of the R&O, including FRFA to the Chief Counsel for Advocacy of the Small Business Administration. A copy of the R&O and FRFA (or summaries thereof) will also be published in the Federal Register. See 5 U.S.C. 604(b).

Ordering Clauses

15. Pursuant to the authority of § 4(i), 303(r), and 332(a)(2) of the Communications Act of 1934, as amended, 47 U.S.C. 154(i), 303(r), 332(a)(2), parts 0, 80 and 90 of the Commission's Rules, are amended as set forth.

16. The rule changes will become effective August 14, 2000.

17. The Commission's Reference Information Center, Consumer Information Bureau, SHALL SEND a copy of this R&O, WT Docket No. 99-332, including the Final Regulatory Flexibility Analysis, to the Chief Counsel for Advocacy of the Small Business Administration.

18. Pursuant to Section 4(i) of the Communications Act of 1934, as amended, 47 U.S.C. 154(i), that this proceeding is terminated.

List of Subjects

47 CFR Part 0

Administrative practice and procedure.

47 CFR Part 80

Communications equipment, marine safety.

47 CFR Part 90

Communications equipment.

Federal Communications Commission.
Magalie Roman Salas,
Secretary.

Final Rules

For reasons discussed in the preamble, Title 47 of the Code of Federal Regulations, parts 0, 80 and 90, are proposed to be amended as follows:

PART 0—COMMISSION ORGANIZATION

1. The authority citation for part 0 continues to read as follows:

Authority: Secs. 5, 48 Stat. 1068, as amended; 47 U.S.C. 155.

2. Section 0.331 is amended by adding new paragraph (d)(3) to read as follows:

§ 0.331 Authority delegated.

* * * * *

(d) * * *

(3) Designate by footnote to frequency table in § 80.373(f) of this chapter marine VHF frequencies are available for intership port operations communications in defined port areas.

PART 80—STATIONS IN THE MARITIME SERVICES

3. The authority citation for part 80 continues to read as follows:

Authority: Secs. 4, 303, 307 (e), 309 and 322, 48 Stat. 1066, 1082, as amended; 47 U.S.C. 154, 303, 307 (e), 309 and 322 unless otherwise noted. Interpret or apply 48 Stat. 1064-1068, 1081-1105, as amended; 47 U.S.C. 151-155, 301-609; 3 UST 3450, 3 UST 4726, 12 UST 2377.

4. In § 80.373 (f), footnote 2 to the table is revised as follows:

§ 80.373 Private communications frequencies.

* * * * *

² 156.250 MHz is available for port operations communications use only within the U.S. Coast Guard designated VTS radio protection areas of New Orleans and Houston described in § 80.383. 156.250 MHz is available for intership port operations communications used only within the area of Los Angeles and Long Beach harbors, within a 25-nautical mile radius of Point Fermin, California.

* * * * *

PART 90—PRIVATE LAND MOBILE RADIO SERVICES

5. The authority citation for part 90 continues to read as follows:

Authority: Sections 4(i), 11, 303(g), 303(r), and 332(c)(7) of the Communications Act of 1934, as amended, 47 U.S.C. 154(i), 161, 303(g), 303(r), 332(c)(7).

6. Section 90.20 (c) (3) is amended by revising the entry to read as follows:

§ 90.20 Public Safety Pool.

* * * * *

(c) * * *

(3) * * *

Public Safety Pool Frequency Table
Frequency or band | Class of station(s) | Limitations | Coordinator
* * * * * * *
156.240 | do | 43, 79 | PH
* * * * * * *

* * * * *

7. Section 90.20(d) is amended by designating the second paragraph (77) as (78) and by adding paragraph (79) to read as follows:

(d) * * *

(79) This frequency will be secondary to marine port operations within 100 miles of Los Angeles (coordinates 34° 03′ 15″ north latitude and 118° 14′ 28″ west longitude).

* * * * *

[FR Doc. 00-17665 Filed 7-13-00; 8:45 am]

BILLING CODE 6712-01-P